DEPARTMENT OF TRANSPORTATION

Federal Highway Administration

Environmental Impact Statement: Solano County, California

AGENCY: Federal Highway Administration (FHWA), Department of Transportation.

ACTION: Notice of Intent.

SUMMARY: The FHWA is issuing this notice to advise the public that an environmental impact statement will be prepared for a proposed highway project in Solano County, California.

FOR FURTHER INFORMATION CONTACT: C. Glenn Clinton, Team Leader, Project Delivery Team North, Federal Highway Administration, California Division, 980 Ninth Street, Suite 400, Sacramento, CA 95814-2724. Telephone: (916) 498-5037.

SUPPLEMENTARY INFORMATION: The FHWA, in cooperation with the California Department of Transportation and Solano Transportation Authority, will prepare an environmental impact statement (EIS) on a proposal to construct a 12-mile-long four-lane roadway using primarily existing local roads between Interstate 80 (I-80) on the north and State Route 12 (SR 12) on the south. The project is known as the Jepson Parkway project. The Jepson Parkway project spans four jurisdictions, including (proceeding from north to south) the City of Vacaville, Solano County, the City of Fairfield, and Suisun City. The project is needed to provide an integrated and continuous route for local north/south trips between Vacaville, areas of Solano County, Fairfield, and Suisun City, consistent with adopted local plans. Although I-80 runs east/west through this area, this interstate freeway is currently one of the few roads that spans the distance between these jurisdictions. Therefore, the project would also serve as an alternative travel route to I-80. Additionally, the project is needed to relieve existing traffic congestion, improve safety, and accommodate future traffic associated with planned growth.

Alternatives to be considered may include: (1) A limited expressway that includes grade separations at selected locations; (2) bus and high occupancy vehicle (HOV) lanes, in addition to mixed-flow lanes; (3) alternative locations for selected portions of the corridor to reduce environmental impacts associated with the project; and (4) taking no action.

Because project construction will likely require a Clean Water Act Section 404 individual permit, project planning and development will be consistent with the Memorandum of Understanding concerning the NEPA/404 Integration Process for Surface Transportation Projects.

Letters describing the proposed action and soliciting comments will be sent to appropriate Federal, State, and local agencies, and to private organizations and citizens who have previously expressed or are known to have interest in this proposal. A public scoping meeting will be held at 7 p.m. on August 9, 2000 at the Suisun City Hall, 701 Civic Center Boulevard, Suisun City, California. A public hearing will be held for the draft EIS following preparation of various technical studies and approval for public availability by the FHWA. Public notice will be given as to the time and place of this hearing, currently projected for summer 2001. The draft EIS will be available for public and agency review and comment prior to the draft EIS public hearing.

To ensure that the full range of issues related to this proposal are addressed and all significant issues identified, comments and suggestions are invited from all interested parties. Comments or questions concerning this proposed action and the EIS should be directed to the FHWA at the address listed above.

(Catalog of Federal Domestic Assistance Program Number 20.205, Highway and Planning and Construction. The regulations implementing Executive Order 12372 regarding intergovernmental consultation on Federal programs and activities apply to this program)
Issued on: July 31, 2000.
C. Glenn Clinton,
Team Leader, Project Delivery Team North, Sacramento, California.

[FR Doc. 00-19819 Filed 8-3-00; 8:45 am]

BILLING CODE 4910-22-M